ENVIRONMENTAL PROTECTION AGENCY

[FRL-9724-5]

Proposed RCRA Prospective Purchaser Agreement, Order on Consent and Covenant Not To Sue for a Portion of the Delphi Flint West Site, a/k/a Chevy in the Hole in Flint, Genesee County, MI

AGENCY: Environmental Protection Agency.

ACTION: Notice; request for public comment.

SUMMARY: In accordance with the RCRA Prospective Purchaser Agreement, notice is hereby given of a proposed administrative settlement concerning a portion of the Delphi Flint West Site, a/k/a Chevy in the Hole in Flint, Michigan with the following settling party: The City of Flint. The settlement requires the Settling Party to conduct various actions at the Property including: Conducting a Phase 1 and Baseline Assessment of the Property; capping and enhancement of the existing cover over contaminated soils; planting of trees and other native vegetation; installing walkways; installing new groundwater monitoring wells and the performance of groundwater monitoring at new and existing wells; executing and recording a Declaration of Restrictive Covenant and providing access to the Property.

The settlement includes a covenant not to sue the Settling Party pursuant to Sections 3008, 7003, or 9006 of RCRA, with respect to the Existing Contamination. Existing Contamination is defined as any Waste Material present or existing on or under the Property as of the Effective Date of the Settlement Agreement; any Waste Material that migrated from the Property prior to the Effective Date; and any Waste Material presently at the Site that migrates onto, on, under, or from the Property after the Effective Date.

For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at the EPA, Region 5, Records Center, 77 W. Jackson Blvd., 7th Fl., Chicago, Illinois 60604.

DATES: Comments must be submitted on or before 30 days from date of publication.

ADDRESSES: The proposed settlement is available for public inspection at the EPA, Region 5, Records Center, 77 W. Jackson Blvd., 7th Fl., Chicago, Illinois 60604. A copy of the proposed settlement may be obtained from Peter Felitti, Assoc. Regional Counsel, EPA, Office of Regional Counsel, Region 5, 77 W. Jackson Blvd., mail code: C-14J, Chicago, Illinois 60604. Comments should reference the Delphi Flint West Site, Flint, Michigan and EPA Docket No. and should be addressed to Peter Felitti, Assoc. Regional Counsel, EPA, Office of Regional Counsel, Region 5, 77 W. Jackson Blvd., mail code: C-14J, Chicago, Illinois 60604.

FOR FURTHER INFORMATION CONTACT: Peter Felitti, Assoc. Regional Counsel, EPA, Office of Regional Counsel, Region 5, 77 W. Jackson Blvd., mail code: C-14J, Chicago, Illinois 60604.

SUPPLEMENTARY INFORMATION: The Respondent proposes to acquire ownership of specified parcels of the former RCRA hazardous waste treatment, storage, or disposal facility known as the Delphi Flint West Site, located at 300 N. Chevrolet Avenue, Flint, Michigan (Site). The EPA identification number for the Site is MID 005 356 654.

Dated: June 29, 2012.
Margaret M. Guerriero,
Director, Land and Chemicals Division.

[FR Doc. 2012-21841 Filed 9-4-12; 8:45 am]

BILLING CODE 6560-50-P